LIBRARY OF CONGRESS

Copyright Office

[Docket No. 2005-1]

Registration of Claims to Copyright: New Format for Certain Copyright Registration Certificates

AGENCY: Copyright Office, Library of Congress.

ACTION: Policy decision, correction.

SUMMARY: The Copyright Office announces a modification to a policy decision announced January 21, 2005, concerning changing the format of certain copyright registration certificates. The modification clarifies how the Office will select applications for registration to be included in a pilot program in which certificates of registration will be generated from registration data scanned from the applications and stored in an electronic information system.

FOR FURTHER INFORMATION CONTACT: Jeff Cole, Acting Reengineering Program Manager, or Kent Dunlap, Principal Legal Advisor to the General Counsel. Telephone: (202) 707-8350. Telefax: (202) 707-8366.

Correction

The Copyright Office recently announced that it is changing the format of certain copyright registration certificates issued for motion pictures and other audiovisual works registered in class PA, as part of a pilot project. Unlike traditional certificates of registration, the certificates issued as part of the pilot project will not be facsimiles of the applications for registration, but will be electronically generated from data entered from the applications. See 70 FR 3231 (January 21, 2005).

In that announcement, the Office included a discussion of the “Transition Period” as follows:

4. Transition Period

Certificates in the new format will be produced only for applications included in the pilot project and initially received in the Copyright Office on or after the start date, February 14, 2005. For applications for motion pictures and other class PA audiovisual works already in process in the Copyright Office on that date, including those for which correspondence is pending, certificates will continue to be issued in the current format, even after the pilot begins.

However, in order to implement the pilot project, the Office has modified its policy with respect to which applications will be included in the project. The Office's policy is as follows:

4. Transition Period

Certificates in the new format will be produced only for applications included in the pilot project, and processing in the pilot will be gradually phased-in to cover more and more applications for motion pictures and other class PA audiovisual works. While the start date for the pilot is February 14, 2005, some applications will be included in the pilot which were received before that date. Also, some applications received on or after the start date will be processed under the old procedures, and will be issued certificates which are a copy of the application.

Dated: February 17, 2005.
David O. Carson,
General Counsel.

[FR Doc. 05-3578 Filed 2-23-05; 8:45 am]

BILLING CODE 1410-30-S